DEPARTMENT OF LABOR

Employment and Training Administration

[TA-W-60,841]

Eagle Picher, Hillsdale Automotive, Traverse City, MI; Notice of Termination of Investigation

Pursuant to Section 221 of the Trade Act of 1974, as amended, an investigation was initiated on January 26, 2007 in response to a worker petition filed by the International Union, United Automobile, Aerospace & Agricultural Implement Workers of America, Region 1D and Local Union 3032 on behalf of workers at Eagle Picher, Hillsdale Automotive, Traverse City, Michigan.

The petitioning group of workers is covered by an earlier petition (TA-W-60,821) filed on January 19, 2006 that is the subject of an ongoing investigation for which a determination has not yet been issued. Further investigation in this case would duplicate efforts and serve no purpose; therefore the investigation under this petition has been terminated.

Signed at Washington, DC this 26th day of January, 2007.
Elliott S. Kushner,
Certifying Officer, Division of Trade Adjustment Assistance.

[FR Doc. E7-1961 Filed 2-6-07; 8:45 am]

BILLING CODE 4510-FN-P